DEPARTMENT OF TRANSPORTATION

Office of the Secretary

Notice of Applications for Certificates of Public Convenience and Necessity and Foreign Air Carrier Permits Filed Under Subpart B (Formerly Subpart Q) During the Week Ending October 6, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22228 and OST-2006-26037.

Date Filed: October 3, 2006.

Due Date for Answers, Conforming Applications, or Motion to Modify Scope: October 24, 2006.

Description: Application of Northwest Airlines, Inc. requesting a certificate authorizing Northwest to provide scheduled air transportation of persons, property and mail from a point or points in the United States, via intermediate points, to a point or points in the Open Skies countries listed in Attachment A, and beyond.

Renee V. Wright,
Program Manager, Docket Operations, Federal Register Liaison.

[FR Doc. E6-18754 Filed 11-6-06; 8:45 am]

BILLING CODE 4910-9X-P